DEPARTMENT OF ENERGY

Federal Energy Regulatory Commission

[ Docket No PF13-7-000]

Columbia Gas Transmission, LLC; Notice of Additional Public Scoping Meetings for the Planned East Side Expansion Project and Request for Comments on Environmental Issues

The staff of the Federal Energy Regulatory Commission (FERC or Commission) will hold additional public scoping meetings in Chester County, Pennsylvania and Gloucester County, New Jersey to receive comments on the alternative pipeline routes under consideration for the Line 1278 Loop and Line 10345 Loop of the Columbia Gas Transmission, LLC's (Columbia) planned East Side Expansion Project (Project). The dates, times, and locations of the meetings are detailed in the table below.

Federal Energy Regulatory Commission Public Scoping Meetings East Side Expansion Project
[FERC Docket No. PF13-7-000]
October 15, 2013, 7:00 PM * | Woolwich Township Hall, 120 Village Green Drive, Swedesboro, NJ 08085.
October 16, 2013, 7:00 PM * | Wyndham Garden Exton Valley Forge, 815 North Pottstown Pike, Exton, PA. 19341
* Columbia representatives will be available starting at 6:30 to answer questions interested parties may have about the project.

On March 8, 2013 the Commission's staff began a pre-filing environmental review of Columbia's East Side Expansion Project. On June 6, 2013 the Commission issued a Notice of Intent To Prepare an Environmental Assessment, Request for Comments on Environmental Issues, and Notice of Public Scoping Meetings. Scoping meetings were held on June 18, 2013 in Chester County, Pennsylvania and on June 19, 2013 in Gloucester County, New Jersey. The pre-filing environmental review is ongoing and to date, Columbia has completed surveys of potentially affected lands and has prepared information required for the Commission's environmental review of the project. Based on its review of the project, comments provided by staff, and public concerns expressed about the project, Columbia is considering numerous project alternatives including pipeline route variations in Pennsylvania and an alternative pipeline route in New Jersey. Implementing an alternative could affect the environment, affect new landowners, and/or affect landowners differently than previously expected. To ensure that the public has an opportunity to comment on the alternatives being considered, staff has determined that additional public scoping meetings are necessary.

You have been identified as a landowner or an interested party that may be affected by the alternatives being considered. Information in this notice was prepared to familiarize you with Columbia's project, the Commission's environmental review process, how you can comment on the project, and stay informed about project developments.

In addition to commenting at a public scoping meeting, you may submit comments in writing. Further details on how to submit written comments are provided in the Public Participation section of this notice. Ultimately, your comments will help the Commission's staff with its environmental review of the project. The Commission will consider all comments submitted on or before October 31, 2013.

This notice is being sent to the Commission's current environmental mailing list for this project. State and local government representatives should notify their constituents and encourage them to comment on their areas of concern.

If you are a landowner receiving this notice, a Columbia representative may have already contacted you or may contact you in the near future about the acquisition of an easement to construct, operate, and maintain the planned facilities or request permission to perform environmental surveys on your property. Some landowners may not be contacted if the alternative across their property is found to be either not feasible or not environmentally preferable to other alternatives being considered. If the Commission approves the project, that approval conveys with it the right of eminent domain. Therefore, if easement negotiations fail to produce an agreement, the pipeline company could initiate condemnation proceedings where compensation would be determined in accordance with state law.

Summary of the Planned Project

Columbia plans to expand and improve its existing natural gas transmission pipeline system to increase operational flexibility and efficiency, provide bi-directional flow capabilities, and an additional 310,000 dekatherms per day of natural gas service to mid-Atlantic markets. Specifically, Columbia plans to construct, modify, install or abandon and replace, and operate certain natural gas transmission pipeline facilities. The general location of the project facilities is shown in Appendix 1.¹ This notice addresses alternative pipeline routes for two of the proposed facilities: the Line 1278 Loop in Chester County, Pennsylvania and the Line 10345 Loop in Gloucester County, New Jersey.

¹ The appendices referenced in this notice will not appear in the Federal Register. Copies of the appendices were sent to all those receiving this notice in the mail and are available at www.ferc.gov using the link called “eLibrary” or from the Commission's Public Reference Room, 888 First Street NE., Washington, DC 20426, or call (202) 502-8371. For instructions on connecting to eLibrary, refer to the last page of this notice.

The Line 1278 Loop would involve constructing and operating approximately 8.9 miles of 26-inch-diameter natural gas transmission pipeline, generally running parallel to the existing Line 1278 pipeline in Chester County, Pennsylvania.

The Line 10345 Loop would involve constructing and operating approximately 7.4 miles of 20-inch-diameter natural gas transmission pipeline, generally running parallel to the existing 10345 pipeline in Gloucester County, New Jersey.

Project Alternatives

The following alternatives are being considered by Columbia. Staff is also considering these alternatives in its pre-filing environmental review of Columbia's project. Illustrations of these alternatives are provided in Appendix 1A.

• Blakely Road-Rock Raymond Alternatives for the Line 1278 Loop: These alternatives (5C and 5D) are variations of the Route 10A Alternative considered in the Sparrows Point LNG Terminal and Pipeline Project Final Environmental Impact Statement (CP07-63-000).

Alternative 5C would depart from the planned Line 1278 pipeline route in a wooded area behind the residences at the end of Helm Way, progressing southeast through a wooded area approximately 0.2 mile to the back side of the residential lots at the end of Blakely Road, then turning south for approximately 0.2 mile. The route would then turn westward passsing behind two residential subdivisions for approximately 0.6 mile, and then rejoin the Line 1278 pipeline route.

Alternative 5D would follow the planned route 0.1 mile further south than Alternative 5C before deviating southeastward to the property lines behind the residences at the end of Blakely Road. Alternative 5D would then follow a route similar to Alternative 5C until deviating to the southeast to Highway 282, then parallel the west side of Highway 282. This route would cross Highway 30 parallel to Highway 282. The route would then turn west paralleling Highway 30 to Rock Raymond Road where it would turn south to rejoin the Line 1278 pipeline route.

• Lloyd Avenue Alternative for the Line 1278 Loop: Beginning at the intersection of Rock Raymond Road and Highway 30, this route alternative would follow Rock Raymond Road, use a horizontal directional drill to cross lands east and west of Lloyd Avenue, and then follow Veteran's Drive before rejoining the Line 1278 pipeline route.

• Oldman's Creek Road Alternative for the Line 10345 Loop: This alternative would follow the Center Square Road route until the intersection of Center Square Road and Pedricktown Road. At this point, the alternative route would parallel the north side of Pedricktown Road in a southwesterly direction for about 0.7 mile to its intersection with Highway 602 (variously called Harrisonville Road, Pedricktown-Harrisonville Road, and Oldmans Creek Road). At this intersection, the route would generally parallel Highway 602 for about 3.5 miles where it would turn cross country through farmland for about 2.0 miles, where it would turn to parallel the north side of the New Jersey Turnpike. The Oldmans Creek Road route would then parallel the New Jersey Turnpike for the last 1.5 miles to its terminus at the Swedesboro Station.

• High Hill Road Alternative for the Line 10345 Loop: This alternative would follow the Center Square Road route until the intersection of Center Square Road and Pedricktown Road. At this point, the alternative route would turn northwest and parallel Pedricktown Road approximately 0.7 mile to its intersection with High Hill Road. The alternative would then parallel High Hill Road in a southeasterly direction for approximately 3.4 miles to its intersection with Auburn Avenue where it would turn southwest, paralleling Auburn Avenue for 0.5 mile before rejoining the Center Square Road route.

In its application, Columbia will propose a preferred pipeline route. The preferred route and alternatives considered will be reviewed by the Commission's staff. As described in the following section, the findings of the staff's review will be reported in an Environmental Assessment (EA) which will be issued for public review.

The EA Process

NEPA requires the Commission to take into account the environmental impacts that could result from an action whenever it considers the issuance of a Certificate of Public Convenience and Necessity. NEPA also requires us ² to discover and address concerns the public may have about proposals. This process is referred to as scoping. The main goal of the scoping process is to focus the analysis in the EA on the important environmental issues. By this notice, the Commission requests public comments on the alternative pipeline routes currently under consideration. We will consider all filed comments including any additional alternatives that are suggested during the preparation of the EA.

² “We,” “us,” and “our” refer to the environmental staff of the Commission's Office of Energy Projects.

Although no formal application has been filed, we have already initiated our NEPA review under the Commission's pre-filing process. The purpose of the pre-filing process is to encourage early involvement of interested stakeholders and to identify and resolve issues before the FERC receives an application. As part of our pre-filing review, we have contacted federal and state agencies to discuss their involvement in the scoping process and the preparation of the EA.

Our independent analysis of the issues will be presented in the EA. The EA will be placed in the public record, published and distributed to the public for comments. We will consider all comments on the EA before we make our recommendations to the Commission. To ensure your comments are considered, please carefully follow the instructions in the Public Participation section of this notice.

Public Participation

You can make a difference by providing us with your specific comments or concerns about the project. Your comments should focus on the potential environmental effects, reasonable alternatives, and measures to avoid or lessen environmental impacts. The more specific your comments, the more useful they will be. To ensure that your comments are timely and properly recorded, please send your comments so that the Commission receives them in Washington, DC on or before October 31, 2013.

For your convenience, there are three methods you can use to submit your comments to the Commission. In all instances, please reference the project docket number (PF13-7-000) with your submission. The Commission encourages electronic filing of comments and has expert staff available to assist you at (202) 502-8258 or efiling@ferc.gov.

(1) You can file your comments electronically using the eComment feature located on the Commission's Web site (www.ferc.gov) under the link to Documents and Filings. This is an easy method for interested persons to submit brief, text-only comments on a project;

(2) You can file your comments electronically using the eFiling feature located on the Commission's Web site (www.ferc.gov) under the link to Documents and Filings. With eFiling, you can provide comments in a variety of formats by attaching them as a file with your submission. New eFiling users must first create an account by clicking on “eRegister.” You must select the type of filing you are making. If you are filing a comment on a particular project, please select “Comment on a Filing”; or

(3) You can file a paper copy of your comments by mailing them to the following address: Kimberly D. Bose, Secretary, Federal Energy Regulatory Commission, 888 First Street NE., Room 1A, Washington, DC 20426.

Environmental Mailing List

The environmental mailing list includes federal, state, and local government representatives and agencies; elected officials; environmental and public interest groups; Native American Tribes; other interested parties; and local libraries and newspapers. This list also includes all affected landowners (as defined in the Commission's regulations) who are potential right-of-way grantors, whose property may be used temporarily for project purposes, or who own homes within certain distances of aboveground facilities, and anyone who submits comments on the project. We will update the environmental mailing list as the analysis proceeds to ensure that we send the information related to this environmental review to all individuals, organizations, and government entities interested in and/or potentially affected by the planned project.

Copies of the completed EA will be sent to the environmental mailing list for public review and comment. If you would prefer to receive a paper copy of the document instead of the CD version or would like to remove your name from the mailing list, please return the attached Information Request (Appendix 2).

Becoming an Intervenor

Once Columbia files its application with the Commission, you may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are in the User's Guide under the “e-filing” link on the Commission's Web site. Please note that the Commission will not accept requests for intervenor status at this time. You must wait until the Commission receives a formal application for the project.

Additional Information

Additional information about the project is available from the Commission's Office of External Affairs, at (866) 208-FERC, or on the FERC Web site (www.ferc.gov) using the eLibrary link. Click on the eLibrary link, click on “General Search” and enter the docket number, excluding the last three digits in the Docket Number field (i.e., PF13-7). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/esubscribenow.htm.

Finally, public meetings or site visits will be posted on the Commission's calendar located at www.ferc.gov/EventCalendar/EventsList.aspx along with other related information.

Dated: October 1, 2013.
Kimberly D. Bose,
Secretary.

[FR Doc. 2013-24393 Filed 10-7-13; 8:45 am]

BILLING CODE 6717-01-P